FEDERAL COMMUNICATIONS COMMISSION

47 CFR Part 27 and 90

[WT Docket No. 96-86; FCC 02-272]

The Development of Operational, Technical and Spectrum Requirements for Meeting Federal, State and Local Public Safety Agency Communication Requirements Through the Year 2010

AGENCY: Federal Communications Commission.

ACTION: Proposed rule.

SUMMARY: In this document, the Federal Communications Commission (Commission) proposes various technical and operational rules and policies regarding emission limitations in the narrowband portion of the 764-776 MHz and 794-806 MHz bands. This action follows recommendations proposed by the Private Radio Section (PRS) of the Telecommunication Industry Association (TIA). These Commission actions will facilitate public safety capabilities in the 700 MHz Band.

DATES: Comments are due on or before December 9, 2002, and reply comments are due on or before December 23, 2002.

ADDRESSES: Federal Communications Commission 445 12th Street, SW., TW-A325, Washington, DC 20554. See SUPPLEMENTARY INFORMATION for filing instructions.

FOR FURTHER INFORMATION CONTACT: Roberto Mussenden, Esq., rmussend@fcc.gov, Policy and Rules Branch, Public Safety and Private Wireless Division, Wireless Telecommunications Bureau, at (202) 418-0680, or TTY (202) 418-7233.

SUPPLEMENTARY INFORMATION: This is a summary of the Commission's Sixth Notice of Proposed Rulemaking, FCC 02-272, adopted on September 27, 2002, and released on October 4, 2002. The full text of this document is available for inspection and copying during normal business hours in the FCC Reference Center, 445 12th Street, SW., Washington, DC 20554. The complete text may be purchased from the Commission's copy contractor, Qualex International, 445 12th Street, SW., Room CY-B402, Washington, DC 20554. The full text may also be downloaded at: www.fcc.gov. Alternative formats are available to persons with disabilities by contacting Brian Millin at (202) 418-7426 or TTY (202) 418-7365 or at bmillin@fcc.gov.

1. In this Sixth Notice of Proposed Rule Making (Sixth NPRM), the Commission requests comment on its tentative conclusion that adopting revisions to section 90.543 of the Commission's Rules as proposed herein would serve the public interest. These proposed rule changes would align the Commission's rules with industry standards documents and revise the values for Adjacent Channel Coupled Power (“ACCP”) emission limits for public safety transmitters operating in the 764-776 and 794-806 MHz frequency bands (“700 MHz band”). The proposed values reflect an industry consensus in response to the Commission's request in the Second Memorandum Opinion and Order in this proceeding

I. Procedural Matters

A. Ex Parte Rules—Permit-But-Disclose Proceeding

2. This is a permit-but-disclose notice and comment rule making proceeding. Ex parte presentations are permitted, except during the Sunshine Agenda period, provided they are disclosed as provided in the Commission's Rules.

B. Paperwork Reduction Act

3. This Sixth NPRM does not contain either a proposed or modified information collection.

C. Regulatory Flexibility Act

4. Initial Regulatory Flexibility Certification. The Commission has prepared an Initial Regulatory Flexibility Certification concerning the impact on small entities of the policies and rules proposed by this Sixth NPRM. The Initial Regulatory Flexibility Certification is set forth below.

D. Comment Dates

5. Pursuant to §§ 1.415 and 1.419 of the Commission's rules, §§ 1.415 and 1.419, interested parties may file comments are due on or before December 9, 2002, and reply comments on or before December 23, 2002. Comments may be filed using the Commission's Electronic Comment Filing System (ECFS) or by filing paper copies. See Electronic Filing of Documents in Rulemaking Proceedings, 63 FR 24121, May 1 1998.

6. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

7. Parties who choose to file by paper must file an original and four copies of each filing. If more than one docket or rulemaking number appear in the caption of this proceeding, commenters must submit two additional copies for each additional docket or rulemaking number. Filings can be sent by hand or messenger delivery, by commercial overnight courier, or by first-class or overnight U.S. Postal Service mail (although the Commission continues to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

II. Initial Regulatory Flexibility Certification

8. The Regulatory Flexibility Act (RFA) requires that an agency prepare a regulatory flexibility analysis for notice-and-comment rulemaking proceedings, unless the agency certifies that “the rule will not, if promulgated, have a significant economic impact on a substantial number of small entities.” The RFA generally defines “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA).

9. In this Sixth Notice of Proposed Rule Making (Notice), the Commission continues its evaluation of rules applicable to the use of public safety spectrum in the frequencies at 764-776 MHz and 794-806 MHz (the 700 MHz public safety band) and the spectrally proximate 700 MHz guard bands at 746-747 MHz, 762-764 MHz, 776-777 MHz, and 792-794 MHz. The Commission proposes the following changes in the Sixth Notice:

• Revising values in the emission limit tables to ensure technological feasibility;

• Deleting the column entitled “Maximum ACCP (dbm)” from the table governing ACCP requirements for mobile transmitters because these values are inconsistent with the Commission's decision not to require mobile transmitters to utilize Automatic Power Control;

• Changing the terminology “Adjacent Channel Coupled Power” to “adjacent Channel Power” to align the Commission's rules with industry standards.

These changes, which are intended to ensure that the Commission's rules reflect the latest technical and industry standards, and to correct typographical or ministerial errors in the Commission's Rules, are exclusively of an administrative nature. The changes will not have a significant economic impact on small entities because they are technologically neutral and will affect all entities equally.

10. The Commission therefore certifies, pursuant to the RFA, that the proposals in this Notice, if adopted, will not have a significant economic impact on a substantial number of small entities. If commenters believe that the proposals discussed in the Notice require additional RFA analysis, they should include a discussion of these issues in their comments and additionally label them as RFA comments.

11. The Commission will send a copy of the Notice, including a copy of this Initial Regulatory Flexibility Certification, to the Chief Counsel for Advocacy of the SBA. This initial certification will also be published in the Federal Register.

III. Ordering Clauses

12. Pursuant to sections 4(i), 303(f), 332, and 403 of the Communications Act of 1934, as amended, 47 U.S.C. 154(i), 303(f), 332, 337, 405, this notice of proposed rulemaking is hereby adopted.

13. The Commission's Consumer and Government Affairs Bureau, Reference Information Center, shall send a copy of this notice of proposed rule making, including the Regulatory Flexibility Certification, to the Chief Counsel for Advocacy of the Small Business Administration.

List of Subjects

47 CFR Part 27

Communications common carriers, Communications equipment, Radio.

47 CFR Part 90

Communications equipment, Radio

Federal Communications Commission.
Marlene H. Dortch,
Secretary.

Rule Changes

Parts 27 and 90 of title 47 of the Code of Federal Regulations is proposed to be amended as follows:

PART 27—MISCELLANEOUS WIRELESS COMMUNICATIONS SERVICES

1. The authority citation for Part 27 continues to read as follows:

Authority: 47 U.S.C. 154, 301, 302, 303, 307, 309, 332, 336, and 337 unless otherwise noted.

2. Section 27.53 is amended by revising paragraph (d) to read as follows:

§ 27.53 Emission limitations.

* * * * *

(d) For operations in the 746-747 MHz, 762-764 MHz, 776-777 MHz, and 792-794 MHz bands, transmitters must meet the following emission limitations:

(1) The adjacent channel power (ACP) requirements for transmitters designed for various channel sizes are shown in the following tables. Mobile station requirements apply to handheld, car mounted and control station units. The tables specify a value for the ACP as a function of the displacement from the channel center frequency and measurement bandwidth. In the following tables, “(s)” indicates a swept measurement may be used.

Offset from center frequency (kHz) | Measurement bandwidth (kHz) | Maximum ACP (dBc)
6.25 kHz Mobile Transmitter ACP Requirements
6.25 | 6.25 | −40
12.5 | 6.25 | −60
18.75 | 6.25 | −60
25.00 | 6.25 | −65
37.50 | 25.00 | −65
62.50 | 25.00 | −65
87.50 | 25.00 | −65
150.00 | 100.00 | −65
250.00 | 100.00 | −65
350.00 | 100.00 | −65
>400 kHz to 12 MHz | 30 (s) | −75
12 MHz to paired receive band | 30 (s) | −75
In the paired receive band | 30 (s) | −100
12.5 kHz Mobile Transmitter ACP Requirements
9.375 | 6.25 | −40
15.625 | 6.25 | −60
21.875 | 6.25 | −60
37.50 | 25.00 | −60
62.50 | 25.00 | −65
87.50 | 25.00 | −65
150.00 | 100 | −65
250.00 | 100 | −65
350.00 | 100 | −65
>400 to 12 MHz | 30 (s) | −75
12 MHz to paired receive band | 30 (s) | −75
In the paired receive band | 30 (s) | −100
25 kHz Mobile Transmitter ACP Requirements
15.625 | 6.25 | −40
21.875 | 6.25 | −60
37.50 | 25 | −60
62.50 | 25 | −65
87.50 | 25 | −65
150.00 | 100 | −65
250.00 | 100 | −65
350.00 | 100 | −65
>400kHz to 12 MHz | 30 (s) | −75
12 MHz to paired receive band | 30 (s) | −75
In the paired receive band | 30 (s) | −100

Offset from center frequency (kHz) | Measurement Bandwidth (kHz) | Maximum ACP relative (dBc) | Maximum ACP absolute (dBc)
150 kHz Mobile Transmitter ACP Requirements
100 | 50 | −40 | Not specified ¹
200 | 50 | −50 | −35
300 | 50 | −50 | −35
400 | 50 | −50 | −35
600- | 1000 | 30(s) | −60
1000 to receive band | 30(s) | −70 | −55
In the receive band | 30(s) | −100 | −75

Offset from center frequency (kHz) | Measurement bandwidth (kHz) | Maximum ACP (dBc)
6.25 kHz Base Transmitter ACP Requirements
6.25 | 6.25 | −40
12.50 | 6.25 | −60
18.75 | 6.25 | −60
25.00 | 6.25 | −65
37.50 | 25 | −65
62.50 | 25 | −65
87.50 | 25 | −65
150.00 | 100 | −65
250.00 | 100 | −65
350.00 | 100 | −65
>400 to 12 MHz | 30 (s) | −80
12 MHz to paired receive band 30(s) | −80
In the paired receive band | 30 (s) | −100
12.5 kHz Base Transmitter ACP Requirements
9.375 | 6.25 | −40
15.625 | 6.25 | −60
21.875 | 6.25 | −60
37.5 | 25 | −60
62.5 | 25 | −65
87.5 | 25 | −65
150 | 100 | −65
250 | 100 | −65
350.00 | 100 | −65
>400 kHz to 12 MHz | 30 (s) | −80
12 MHz to paired receive band | 30 (s) | −80
In the paired receive band | 30 (s) | −100
25 kHz Base Transmitter ACP Requirements
15.625 | 6.25 | −40
21.875 | 6.25 | −60
37.5 | 25 | −60
62.5 | 25 | −65
87.5 | 25 | −65
150 | 100 | −65
250 | 100 | −65
350 | 100.00 | −65
>400 kHz to12 MHz 30(s) | −80
12 MHz to paired receive band | 30 (s) | −80
In the paired receive band | 30 (s) | −100
150 kHz Base Transmitter ACP Requirements
100 | 50 | −40
200 | 50 | −50
300 | 50 | −55
400 | 50 | −60
600-1000 | 30(s) | −65
1000 to receive band | 30(s) | −75
In the receive band | 30(s) | −100
¹ Not specified.
² Continues at −6dB/Oct.

(2) ACP measurement procedure. The following procedures are to be followed for making ACP transmitter measurements. For time division multiple access (TDMA) systems, the measurements are to be made under TDMA operation only during time slots when the transmitter is on. All measurements must be made at the input to the transmitter's antenna. Measurement bandwidth used below implies an instrument that measures the power in many narrow bandwidths (e.g. 300 Hz) and integrates these powers across a larger band to determine power in the measurement bandwidth.

(i) Setting reference level: Using a spectrum analyzer capable of ACP measurements, set the measurement bandwidth to the channel size. For example, for a 6.25 kHz transmitter, set the measurement bandwidth to 6.25 kHz; for a 150 kHz transmitter, set the measurement bandwidth to 150 kHz. Set the frequency offset of the measurement bandwidth to zero and adjust the center frequency of the spectrum analyzer to give the power level in the measurement bandwidth. Record this power level in dBm as the “reference power level”.

(ii) Non-swept power measurement: Using a spectrum analyzer capable of ACP measurements, set the measurement bandwidth as shown in the tables above. Measure the ACP in dBm. These measurements should be made at maximum power. Calculate the coupled power by subtracting the measurements made in this step from the reference power measured in the previous step. The absolute ACP values must be less than the values given in the table for each condition above.

(iii) Swept power measurement: Set a spectrum analyzer to 30 kHz resolution bandwidth, 1 MHz video bandwidth and sample mode detection. Sweep #6 MHz from the carrier frequency. Set the reference level to the RMS value of the transmitter power and note the absolute power. The response at frequencies greater than 600 kHz must be less than the values in the tables above.

(3) Out-of-band emission limit. On any frequency outside of the frequency ranges covered by the ACP tables in this section, the power of any emission must be reduced below the unmodulated carrier power (P) by at least 43 + 10 log (P) dB.

(4) Authorized bandwidth. Provided that the ACP requirements of this section are met, applicants may request any authorized bandwidth that does not exceed the channel size.

* * * * *

PART 90—PRIVATE LAND MOBILE RADIO SERVICES

3. The authority citation for Part 90 continues to read as follows:

Authority: Sections 4(i), 11, 303(g), 303(r), and 332(c)(7) of the Communications Act of 1934, as amended, 47 U.S.C. 154(i), 161, 303(g), 303(r), 332(c)(7).

4. Section 90.543 is amended by revising paragraph (a) to read as follows:

§ 90.543 Emission limitations.

* * * * *

(a) The adjacent channel power (ACP) requirements for transmitters designed for various channel sizes are shown in the following tables. Mobile station requirements apply to handheld, car mounted and control station units. The tables specify a value for the ACP as a function of the displacement from the channel center frequency and measurement bandwidth. In the following tables, “(s)” indicates a swept measurement may be used.

* * * * *

Offset from center frequency (kHz) | Measurement bandwidth | Maximum ACP (dBc)
6.25 kHz Mobile Transmitter ACP Requirements
6.25 | 6.25 | −40
12.5 | 6.25 | −60
18.75 | 6.25 | −60
25.00 | 6.25 | −65
37.50 | 25.00 | −65
62.50 | 25.00 | −65
87.50 | 25.00 | −65
150.00 | 100.00 | −65
250.00 | 100.00 | −65
350.00 | 100.00 | −65
>400 kHz to 12 MHz | 30 (s) | −75
12 MHz to paired receive band | 30 (s) | −75
In the paired receive band | 30 (s) | −100
12.5 kHz Mobile Transmitter ACP Requirements
9.375 | 6.25 | −40
15.625 | 6.25 | −60
21.875 | 6.25 | −60
37.50 | 25.00 | −60
62.50 | 25.00 | −65
87.50 | 25.00 | −65
150.00 | 100 | −65
250.00 | 100 | −65
350.00 | 100 | −65
>400 kHz to 12 MHz | 30 (s) | −75
12 MHz to paired receive band | 30 (s) | −75
In the paired receive band | 30 (s) | −100
25 kHz Mobile Transmitter ACP Requirements
15.625 | 6.25 | −40
21.875 | 6.25 | −60
37.50 | 25 | −60
62.50 | 25 | −65
87.50 | 25 | −65
150.00 | 100 | −65
250.00 | 100 | −65
350.00 | 100 | −65
>400 kHz to 12 MHz | 30 (s) | −75
12 MHz to paired receive band | 30 (s) | −75
In the paired receive band | 30 (s) | −100

Offset from center frequency (kHz) | Measurement bandwidth (kHz) | Maximum ACP relative (dBc) | Maximum ACP absolute (dBc)
150 kHz Mobile Transmitter ACP Requirements
100 | 50 | −40 | Not specified
200 | 50 | −50 | −35
300 | 50 | −50 | −35
400 | 50 | −50 | −35
600-1000 | 30(s) | −60 | −45
1000 to receive band | 30(s) | −70 | −55
In the receive band | 30(s) | −100 | −75

Offset from center frequency (kHz) | Measurement bandwidth (kHz) | Maximum ACP (dBc)
6.25 kHz Base Transmitter ACP Requirements
6.25 | 6.25 | −40
12.50 | 6.25 | −60
18.75 | 6.25 | −60
25.00 | 6.25 | −65
37.50 | 25 | −65
62.50 | 25 | −65
87.50 | 25 | −65
150.00 | 100 | −65
250.00 | 100 | −65
350.00 | 100 | −65
>400 kHz to 12 MHz | 30 (s) | −80
12 MHz to paired receive band | 30 (s) | −80
In the paired receive band | 30 (s) | −100
12.5 kHz Base Transmitter ACP Requirements
9.375 | 6.25 | −40
15.625 | 6.25 | −60
21.875 | 6.25 | −60
37.5 | 25 | −60
62.5 | 25 | −65
87.5 | 25 | −65
150 | 100 | −65
250 | 100 | −65
350 | 100 | −65
>400 kHz to 12 MHz | 30 (s) | −80
12 MHz to paired receive band | 30 (s) | −80
In the paired receive band | 30 (s) | −100
25 kHz Base Transmitter ACP Requirements
15.625 | 6.25 | −40
21.875 | 6.25 | −60
37.5 | 25 | −60
62.5 | 25 | −65
87.5 | 25 | −65
150 | 100 | −65
250 | 100 | −65
350 | 100.00 | −65
>400 kHz to 12 MHz | 30 (s) | −80
12 MHz to paired receive band | 30 (s) | −80
In the paired receive band | 30 (s) | −100
150 kHz Base Transmitter ACP Requirements
100 | 50 | −40
200 | 50 | −50
300 | 50 | −55
400 | 50 | −60
600-1000 | 30 (s) | −65
1000 to receive band | 30 (s) | ¹ −75
In the receive band | 30 (s) | −100
Continues at 6dB/Oct.

(b) ACP measurement procedure. The following are the procedures for making the transmitter ACP measurements. For all measurements modulate the transmitter as it would be modulated in normal operating conditions. For time division multiple access (TDMA) systems, the measurements are to be made under TDMA operation only during procedures for making transmitter measurements. For time division multiple access (TDMA) systems, the measurements are to be made under TDMA operation only during time slots when the transmitter is active. All measurements are made at the transmitter's output port. If a transmitter has an integral antenna, a suitable power coupling device shall be used to couple the RF signal to the measurement instrument. The coupling device shall substantially maintain the proper transmitter load impedance. The ACP measurements may be made with a spectrum analyzer capable of making direct ACP measurements. “Measurement bandwidth”, as used for non-swept measurements, implies an instrument that measures the power in many narrow bandwidths equal to the nominal resolution bandwidth and integrates these powers to determine the total power in the specified measurement bandwidth.

(1) Setting reference level. Set transmitter to maximum output power. Using a spectrum analyzer capable of ACP measurements, set the measurement bandwidth to the channel size. For example, for a 6.25 kHz transmitter, set the measurement bandwidth to 6.25 kHz; for a 150 kHz transmitter, set the measurement bandwidth to 150 kHz. Set the frequency offset of the measurement bandwidth to zero and adjust the center frequency of the instrument to the assigned center frequency to measure the average power level of the transmitter. Record this power level in dBm as the “reference power level”.

(2) Non-swept power measurement: Using a spectrum analyzer capable of ACP measurements, set the measurement bandwidth and frequency offset from the assigned center frequency as shown in the tables in § 90.543(a) above. Any value of resolution bandwidth may be used as long as it does not exceed 2% of the specified measurement bandwidth. Measure the power level in dBm. These measurements should be made at maximum power. Calculate ACP by subtracting the reference power level measured in (b)(1) from the measurements made in this step. The absolute value of the calculated ACP must be greater than or equal to the absolute value of the ACP given in the table for each condition above.

(3) Swept power measurement: Set a spectrum analyzer to 30 kHz resolution bandwidth, 1 MHz bandwidth and average, sample, or RMS detection. Set the reference level of the spectrum analyzer to the RMS value of the transmitter power. Sweep above and below the carrier frequency to the limits defined in the tables. Calculate ACP by subtracting the reference power level measured in (b)(1) from the measurements made in this step. The absolute value of the calculated ACP must be greater than or equal to the absolute value of the ACP given in the table for each condition above.

(c) Out-of-band emission limit. On any frequency outside of the frequency ranges covered by the ACP tables in this section, the power of any emission must be reduced below the mean output power (P) by at least 43 + 10log (P) dB measured in 100 kHz bandwidth for frequencies less than 1 GHz, and in a 1 MHz bandwidth for frequencies greater than 1GHz.

(d) Authorized bandwidth. Provided that the ACP requirements of this section are met, applicants may request any authorized bandwidth that does not exceed the channel size.

(e) For operations in the 764 to 776 MHz and 794 to 806 MHz bands, all emissions including harmonics in the band 1559-1610 MHz shall be limited to −70 dBW/MHz dBW/MHz equivalent isotropically radiated power (EIRP) for wideband signals, and −80 dBW EIRP for discrete emissions of less than 700 Hz bandwidth. For the purpose of equipment authorization, a transmitter shall be tested with an antenna that is representative of the type that will be used with the equipment in normal operation.

(f) When an emission outside of the authorized bandwidth causes harmful interference, the Commission may, at its discretion, require greater attenuation than specified in this section.

[FR Doc. 02-28166 Filed 11-7-02; 8:45 am]

BILLING CODE 6712-01-P